DEPARTMENT OF HEALTH AND HUMAN SERVICES

Substance Abuse and Mental Health Services Administration

Notice of Meetings

Pursuant to Public Law 92-463, notice is hereby given of the combined meeting on March 27, 2012, of the Substance Abuse and Mental Health Services Administration's (SAMHSA) four National Advisory Councils (the SAMHSA National Advisory Council (NAC), the Center for Mental Health Services NAC, the Center for Substance Abuse Prevention NAC, the Center for Substance Abuse Treatment NAC), and the two SAMHSA Advisory Committees (Advisory Committee for Women's Services, and the Tribal Technical Advisory Committee).

The Councils were established to advise the Secretary, Department of Health and Human Services (HHS), the Administrator, SAMHSA, and Center Directors, concerning matters relating to the activities carried out by and through the Centers and the policies respecting such activities.

Under Section 501 of the Public Health Service Act, the Advisory Committee for Women's Services (ACWS) is statutorily mandated to advise the SAMHSA Administrator and the Associate Administrator for Women's Services on appropriate activities to be undertaken by SAMHSA and its Centers with respect to women's substance abuse and mental health services.

Pursuant to Presidential Executive Order No. 13175, November 6, 2000, and the Presidential Memorandum of September 23, 2004, SAMHSA established the Tribal Technical Advisory Committee (TTAC) for working with Federally-recognized Tribes to enhance the government-to-government relationship, honor Federal trust responsibilities and obligations to Tribes and American Indian and Alaska Natives. The SAMHSA TTAC serves as an advisory body to SAMHSA.

The March 27 combined meeting will include a report from the SAMHSA Administrator, an update on SAMHSA's Budget, and discussions related to SAMHSA strategic initiatives and critical issues, health reform, and the use of public health frameworks to promote behavioral health in school.

The meeting is open to the public. However, attendance is limited to space availability. Public comments are welcome. The meeting may be accessed via Webcast. To attend on site, obtain the call-in number and access code, submit written or brief oral comments, or request special accommodations for persons with disabilities, please register on-line at http://nac.samhsa.gov/Registration/meetingsRegistration.aspx, or communicate with SAMHSA's Committee Management Officer, Ms. Geretta Wood (see contact information below).

Substantive program information may be obtained after the meeting by accessing the SAMHSA Committee Web site, http://nac.samhsa.gov/, or by contacting Ms. Wood.

Committee Names: Substance Abuse and Mental Health Services Administration National Advisory Council.

Center for Mental Health Services National Advisory Council.

Center for Substance Abuse Prevention National Advisory Council.

Center for Substance Abuse Treatment National Advisory Council.

SAMHSA's Advisory Committee for Women's Services.

SAMHSA Tribal Technical Advisory Committee.

Date/Time/Type: Tuesday, March 27, 2012, 8:30 a.m.-5 p.m. (OPEN).

Place: SAMHSA, 1 Choke Cherry Road, SAMHSA 1st Floor Conference Rooms, Rockville, Maryland 20857.

Contact: Geretta Wood, Committee Management Officer and Designated Federal Official, SAMHSA National Advisory Council, SAMHSA's Advisory Committee for Women's Services, 1 Choke Cherry Road, Rockville, Maryland 20857, Telephone: (240) 276-2326, Fax: (240) 276-1260 and Email: geretta.wood@samhsa.hhs.gov.

The Substance Abuse and Mental Health Services Administration National Advisory Council will meet on March 28, 2012. The meeting will include a recap of the March 27, 2012 Joint Council meeting; and discussions on the use of performance measures for recovery, LGBT behavioral health disparities, and crisis and disaster response.

The meeting is open to the public. However, attendance is limited to space availability. Public comments are welcome. To attend on-site, submit written or brief oral comments, or request special accommodations for persons with disabilities, please register at the SAMHSA Committees' Web site, http://nac.samhsa.gov/Registration/meetingsRegistration.aspx, or communicate with the SAMHSA Council's Designated Federal Official, Ms. Geretta Wood (see contact information below).

Committee Name: Substance Abuse and Mental Health Services Administration National Advisory Council.

Date/Time/Type: Wednesday, March 28, 2012, 8:30 a.m.-1:45 p.m. (OPEN).

Place: SAMHSA, 1 Choke Cherry Road, Sugarloaf Conference Room, Rockville, Maryland 20857.

Contact: Geretta Wood, Committee Management Officer and Designated Federal Official, SAMHSA National Advisory Council, 1 Choke Cherry Road, Rockville, Maryland 20857, Telephone: (240) 276-2326, Fax: (240) 276-1260, Email: geretta.wood@samhsa.hhs.gov.

The Substance Abuse and Mental Health Services Administration's Advisory Committee for Women's Services Committee (ACWS) will meet on March 26, 2012. The meeting will include remarks from the Associate Administrator for Women's Services; updates from SAMHSA Women's Coordinating Committee regarding the SAMHSA Women's Conference; a discussion of risk factors and potential interventions for adolescent girls; and a presentation on barriers to treatment for young women.

Public attendance is limited to space availability. Public comments are welcome. To attend on site, submit written or brief oral comments, or to request special accommodations for persons with disabilities, please register at the SAMHSA Committees' Web site, http://nac.samhsa.gov/Registration/meetingsRegistration.aspx, or communicate with the ACWS Designated Federal Officer, Ms. Geretta Wood (see contact information below).

Committee Name: SAMHSA's Advisory Committee for Women's Services.

Date/Time/Type: Monday, March 26, 2012, 9 a.m.-5 p.m. (OPEN).

Place: SAMHSA, 1 Choke Cherry Road, Sugarloaf Conference Room, Rockville, Maryland 20857.

Contact: Geretta Wood, Committee Management Officer and Designated Federal Official, SAMHSA Advisory Committee for Women's Services, 1 Choke Cherry Road, Rockville, Maryland 20857, Telephone: (240) 276-2326, FAX: (240) 276-1260, Email: geretta.wood@samhsa.hhs.gov.

The SAMHSA Tribal Technical Advisory Committee (STTAC) will meet on March 28, 2012. The meeting agenda will include Administrator's remarks, discussions on health reform and effective outreach to Tribes. The meeting is open to the public. However, attendance is limited to space availability. To attend on-site or request special accommodations for persons with disabilities, please register at the SAMHSA Committees' Web site, http://nac.samhsa.gov/Registration/meetingsRegistration.aspx, or communicate with the SAMHSA Senior Advisor for Tribal Affairs, Ms. Sheila Cooper (see contact information below).

Committee Name: SAMHSA Tribal Technical Advisory Committee.

Date/Time/Type: Wednesday, March 28, 2012, 9 a.m.-4:30 p.m. (OPEN).

Place: SAMHSA, 1 Choke Cherry Road, Seneca Conference Room, Rockville, Maryland 20857.

Contact: Sheila Cooper, Senior Advisor for Tribal Affairs, SAMHSA Tribal Technical Advisory Committee, 1 Choke Cherry Road, Rockville, Maryland 20857, Telephone: (240) 276-2005, Fax: (240) 276-2010 and Email: sheila.cooper@samhsa.hhs.gov.

The Center for Mental Health Services National Advisory Council will meet on March 28, 2012. The meeting will include the Director's report; an update on the FY2012 budget; discussion of SAMHSA's Strategic Initiatives, including the Recovery Support, and Military Families Strategic Initiatives; presentations on the Trauma and Justice Initiatve and Prevention Initiative (suicide), and the Primary and Behavioral Health Care Integration Project.

The meeting is open to the public. However, attendance is limited to space availability. Public comments are welcome. To attend on-site, submit written or brief oral comments, or request special accommodations for persons with disabilities, please register at the SAMHSA Committees' Web site, http://nac.samhsa.gov/Registration/meetingsRegistration.aspx or communicate with the CMHS Council's Designated Federal Official, Ms. Crystal Saunders (see contact information below).

Committee Name: Center for Mental Health Services National Advisory Council.

Date/Time/Type: Wednesday, March 28, 2012, 8:30 a.m.-4:30 p.m. (OPEN).

Place: SAMHSA, 1 Choke Cherry Road, Great Falls Conference Room, Rockville, Maryland 20857.

Contact: Crystal Saunders, Designated Federal Official, CMHS National Advisory Council, 1 Choke Cherry Road, Rockville, Maryland 20857, Telephone: (240) 276-1117, Fax: (240) 276-1930 and Email: crystal.saunders@samhsa.hhs.gov.

The Center for Substance Abuse Prevention National Advisory Council will meet on March 26, 2012. The meeting is open and will include discussion of the Center's policy and program issues, FY2012 budget, and current and emerging issues in prevention. Attendance is limited to space availability. Public comments are welcome. To attend on-site, submit written or brief oral comments, or request special accommodations for persons with disabilities, please register at the SAMHSA Committees' Web site, http://nac.samhsa.gov/Registration/meetingsRegistration.aspx, or communicate with the CSAP Council's Designated Federal Official, Ms. Tia Haynes (see contact information below).

Committee Name: Center for Substance Abuse Prevention National Advisory Council.

Date/Time/Type: Monday, March 26, 2012, 10 a.m.-4 p.m. (OPEN).

Place: SAMHSA, 1 Choke Cherry Road, Rock Creek Conference Room, Rockville, Maryland 20857.

Contact: Tia Haynes, Designated Federal Official, CSAP National Advisory Council, 1 Choke Cherry Road, Rockville, Maryland 20857, Telephone: (240) 276-2436, Fax: (240) 276-2430, Email: tia.haynes@samhsa.hhs.gov.

The Center for Substance Abuse Treatment National Advisory Council will meet on March 26, 2012. The meeting is open to the public and will include a discussion of the Center's current budget, administrative, legislative, and program developments. However, attendance is limited to space availability. Public comments are welcome. To attend on-site, or request special accommodations for persons with disabilities, please register at SAMHSA Committees' Web site, http://nac.samhsa.gov/Registration/meetingsRegistration.aspx, or communicate with the Council's Designated Federal Officer, Ms. Cynthia Graham (see contact information below).

Committee Name: Center for Substance Abuse Treatment National Advisory Council.

Date/Time/Type: Monday, March 26, 2012, 9 a.m.-4:30 p.m. (OPEN).

Place: SAMHSA, 1 Choke Cherry Road, Seneca Conference Room, Rockville, Maryland 20857.

Contact: Cynthia Graham, M.S., Designated Federal Official, SAMHSA/CSAT National Advisory Council, 1 Choke Cherry Road, Room 5-1036, Rockville, MD 20857, Telephone: (240) 276-1692, FAX: (240) 276-1690, Email: cynthia.graham@samhsa.hhs.gov.

Summer King,
Statistician, Substance Abuse and Mental Health Services Administration.

[FR Doc. 2012-4564 Filed 2-27-12; 8:45 am]

BILLING CODE 4162-20-P